DEPARTMENT OF COMMERCE

International Trade Administration

[C-351-863, C-122-872, C-201-864, C-552-844]

Certain Corrosion-Resistant Steel Products From Brazil, Canada, Mexico, and the Socialist Republic of Vietnam: Initiation of Countervailing Duty Investigations

AGENCY: Enforcement and Compliance, International Trade Administration, Department of Commerce.

DATES: Applicable September 25, 2024.

FOR FURTHER INFORMATION CONTACT: Paul Senoyuit and Sofia Pedrelli at 202-482-6106 and 202-482-4310 (Brazil), Colin Thrasher at 202-482-3004 (Canada), Maria Teresa Aymerich at 202-482-0499 (Mexico), and Mary Kolberg at 202-482-1785 (the Socialist Republic of Vietnam (Vietnam)), AD/CVD Operations, Enforcement and Compliance, International Trade Administration, U.S. Department of Commerce, 1401 Constitution Avenue NW, Washington, DC 20230.

SUPPLEMENTARY INFORMATION:

The Petitions

On September 5, 2024, the U.S. Department of Commerce (Commerce) received countervailing duty (CVD) petitions concerning imports of certain corrosion-resistant steel products (CORE) from Brazil, Canada, Mexico, and Vietnam filed in proper form on behalf of Steel Dynamics, Inc. (SDI), Nucor Corporation (Nucor), United States Steel Corporation (U.S. Steel), Wheeling-Nippon Steel, Inc. (Wheeling-Nippon), and the United Steel, Paper and Forestry, Rubber, Manufacturing, Energy, Allied Industrial and Service Workers International Union, AFL-CIO, CLC (the USW), domestic producers of CORE and a certified union, which represents workers engaged in the production of CORE in the United States (collectively, the petitioners).¹ The CVD petitions were accompanied by antidumping duty (AD) petitions concerning imports of CORE from Australia, Brazil, Canada, Mexico, the Netherlands, South Africa, Taiwan, the Republic of Türkiye, the United Arab Emirates, and Vietnam.²

¹ See Petitioners' Letter, “Petitions for the Imposition of Antidumping and Countervailing Duties,” dated September 5, 2024 (the Petitions). Nucor is not a petitioner with respect to the AD/CVD petitions on CORE from Mexico. U.S. Steel, Wheeling-Nippon, and the USW are not petitioners with respect to the AD/CVD petitions on CORE from Canada.

² Id.

Between September 9 and 19, Commerce requested supplemental information pertaining to certain aspects of the Petitions.³ Between September 12 and 20, 2024, the petitioners filed timely responses to these requests for additional information.⁴

³ See Commerce's Letters, “Supplemental Questions,” dated September 9, 2024 (General Issues Questionnaire), see also Country-Specific CVD Supplemental Questionnaires: Brazil Supplemental, Canada Supplemental, Mexico Supplemental, and Vietnam Supplemental, dated September 10 and 11, 2024; Commerce's Letter, “Second Supplemental Questions,” dated September 16, 2024 (Second General Issues Questionnaire); and Memorandum, “Phone Call,” dated September 19, 2024.

⁴ See Petitioners' Letters, “Response to General Issues Questionnaire and Amendment to Volume I of Petitions,” dated September 12, 2024 (First General Issues Supplement); see also Petitioners' Country-Specific CVD Supplemental Responses: Brazil CVD Supplement, Canada CVD Supplement, Mexico CVD Supplement, and Vietnam CVD Supplement, dated September 13 and 16, 2024; Petitioners' Letter, “Petitioners' Response to Second General Issues Supplemental Questionnaire and Amendment to Volume I of Petitions,” dated September 18, 2024 (Second General Issues Supplement); and Petitioners' Letter, “Response to Third General Issues Questionnaire and Amendment to Volume I of Petitions,” dated September 20, 2024 (Third General Issues Supplement).

In accordance with section 702(b)(1) of the Tariff Act of 1930, as amended (the Act), the petitioners allege that the Government of Brazil (GOB), the Government of Canada (GOC), the Government of Mexico (GOM), and the Government of Vietnam (GOV) (collectively, Governments) are providing countervailable subsidies, within the meaning of sections 701 and 771(5) of the Act, to producers of CORE from Brazil, Canada, Mexico, and Vietnam, and that such imports are materially injuring, or threatening material injury to, the domestic industry producing CORE in the United States. Consistent with section 702(b)(1) of the Act and 19 CFR 351.202(b), for those alleged programs on which we are initiating CVD investigations, the Petitions were accompanied by information reasonably available to the petitioners supporting their allegations.

Commerce finds that the petitioners filed the Petitions on behalf of the domestic industry because the petitioners are interested parties, as defined in sections 771(9)(C) and (D) of the Act.⁵ Commerce also finds that the petitioners demonstrated sufficient industry support with respect to the initiation of the requested CVD investigations.⁶

⁵ SDI, Nucor, U.S. Steel, and Wheeling-Nippon are interested parties under section 771(9)(C) of the Act, while the USW is an interested party under section 771(9)(D) of the Act.

⁶ See section on “Determination of Industry Support for the Petitions,” infra.

Periods of Investigation

Because the Petitions were filed on September 5, 2024, the periods of investigation for the Brazil, Canada, Mexico, and Vietnam CVD investigations are January 1, 2023, through December 31, 2023.⁷

⁷ See 19 CFR 351.204(b)(2).

Scope of the Investigations

The merchandise covered by these investigations is CORE from Brazil, Canada, Mexico, and Vietnam. For a full description of the scope of these investigations, see the appendix to this notice.

Comments on the Scope of the Investigations

On September 9 and 16, 2024, Commerce requested information and clarification from the petitioners regarding the proposed scope to ensure that the scope language in the Petitions is an accurate reflection of the products for which the domestic industry is seeking relief.⁸ On September 12 and 18, 2024, the petitioners provided clarifications and revised the scope.⁹ The description of merchandise covered by these investigations, as described in the appendix to this notice, reflects these clarifications.

⁸ See General Issues Questionnaire; see also Second General Issues Questionnaire.

⁹ See First General Issues Supplement at 7-9 and Exhibit Supp. I-55; see also Second General Issues Supplement at 2-3 and Exhibit 2nd Supp I-7.

As discussed in the Preamble to Commerce's regulations, we are setting aside a period for interested parties to raise issues regarding product coverage (i.e., scope).¹⁰ Commerce will consider all comments received from interested parties and, if necessary, will consult with interested parties prior to the issuance of the preliminary determinations. If scope comments include factual information, all such factual information should be limited to public information.¹¹ To facilitate preparation of its questionnaires, Commerce requests that scope comments be submitted by 5:00 p.m. Eastern Time (ET) on October 15, 2024, which is 20 calendar days from the signature date of this notice.¹² Any rebuttal comments, which may include factual information, must be filed by 5:00 p.m. ET on October 25, 2024, which is 10 calendar days from the initial comment deadline.

¹⁰ See Antidumping Duties; Countervailing Duties; Final Rule, 62 FR 27296, 27323 (May 19, 1997) (Preamble).

¹¹ See 19 CFR 351.102(b)(21) (defining “factual information”).

¹² See 19 CFR 351.303(b)(1).

Commerce requests that any factual information that parties consider relevant to the scope of the investigations be submitted during that time period. However, if a party subsequently finds that additional factual information pertaining to the scope of the investigations may be relevant, the party must contact Commerce and request permission to submit the additional information. All scope comments must be filed simultaneously on the records of the concurrent AD and CVD investigations.

Filing Requirements

All submissions to Commerce must be filed electronically via Enforcement and Compliance's Antidumping Duty and Countervailing Duty Centralized Electronic Service System (ACCESS), unless an exception applies.¹³ An electronically filed document must be received successfully in its entirety by the time and date it is due.

¹³ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the Governments of the receipt of the Petitions and provided an opportunity for consultations with respect to the Petitions.¹⁴ Commerce held consultations with the GOB on September 23, 2024,¹⁵ the GOC on September 19, 2024,¹⁶ the GOM on September 20, 2024,¹⁷ and the GOV on September 19, 2024.¹⁸

¹⁴ See Commerce's Letters, “Invitation for Consultation to Discuss the Countervailing Duty Petition,” dated September 5, 2024, and September 6, 2024.

¹⁵ See Memorandum, “Consultations with the Government of Brazil,” dated September 23, 2024.

¹⁶ See Memorandum, “Consultations with Officials from the Government of Canada,” dated September 19, 2024 (GOC Consultations Memorandum). In addition, on September 24, 2024, Commerce met via video conference with officials from the GOC (at their request) to further discuss the issues raised during the September 19, 2024, consultations. See Memorandum, “Petition for the Imposition of Countervailing Duties on Imports of Certain Corrosion-Resistant Steel Products from Canada: Videoconference with Embassy of Canada,” dated September 24, 2024.

¹⁷ See Memorandum, “Consultations with Officials from the Government of Mexico,” dated September 23, 2024.

¹⁸ See Memorandum, “Consultations with the Government of Vietnam,” dated September 19, 2024.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹⁹ they do so for different purposes and pursuant to a separate and distinct authority. In addition, Commerce's determination is subject to limitations of time and information. Although this may result in different definitions of the like product, such differences do not render the decision of either agency contrary to law.²⁰

¹⁹ See section 771(10) of the Act.

²⁰ See USEC, Inc. v. United States, 132 F. Supp. 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.²¹ Based on our analysis of the information submitted on the record, we have determined that CORE, as defined in the scope, constitutes a single domestic like product, and we have analyzed industry support in terms of that domestic like product.²²

²¹ For a discussion of the domestic like product analysis as applied to these cases and information regarding industry support, see Checklists, “Countervailing Duty Investigation Initiation Checklists: Certain Corrosion-Resistant Steel Products from Brazil, Canada, Mexico, and the Socialist Republic of Vietnam,” dated concurrently with, and hereby adopted by, this notice (Country-Specific CVD Initiation Checklists), at Attachment II, Analysis of Industry Support for the Antidumping and Countervailing Duty Petitions Covering Certain Corrosion-Resistant Steel Products from Australia, Brazil, Canada, Mexico, the Netherlands, South Africa, Taiwan, the Republic of Türkiye, the United Arab Emirates, and the Socialist Republic of Vietnam (Attachment II). These checklists are on file electronically via ACCESS.

²² See Attachment II of the Country-Specific CVD Initiation Checklists.

In determining whether the petitioners have standing under section 702(c)(4)(A) of the Act, we considered the industry support data contained in the Petitions with reference to the domestic like product as defined in the “Scope of the Investigations,” in the appendix to this notice. To establish industry support, the petitioners provided the 2023 total shipments of the domestic like product for the U.S. producers and workers that support the Petitions and compared this to the estimated total 2023 shipments of the domestic like product for the entire domestic industry.²³ The petitioners estimated total shipments of the domestic like product for the entire domestic industry based on shipment data from the American Iron and Steel Institute and made certain adjustments to these data to approximate total shipments of the domestic like product in 2023.²⁴ Because total industry production data for the domestic like product for 2023 are not reasonably available to the petitioners, and the petitioners have established that shipments are a reasonable proxy for production data,²⁵ we have relied on the data provided by the petitioners for purposes of measuring industry support.²⁶

²³ Id.

²⁴ Id.

²⁵ Id.

²⁶ Id.

On September 18, 2024, we received timely filed comments on industry support from Stelco, Inc. (Stelco), a Canadian producer/exporter of CORE.²⁷ On September 18, 2024, we also received timely filed comments on industry support from ArcelorMittal Dofasco G.P. (Dofasco), a Canadian producer and exporter of CORE.²⁸ Also on September 18, 2024, we received timely filed comments on industry support from Ternium USA and Ternium Mexico S.A. de C.V. (collectively, Ternium), a U.S. producer and importer of CORE and a Mexican producer/exporter of CORE, respectively.²⁹ In its September 18, 2024, submission, Ternium stated that it opposed the Mexico CVD Petition.³⁰ On September 18, 2024, we also received timely filed comments on industry support from the GOC and the Government of Ontario (collectively).³¹ In addition, in the GOC raised industry support concerns during the September 19, 2024, consultations with respect to the Canada CVD Petition.³² On September 20, 2024, the petitioners responded to the comments from Stelco, GOC, Dofasco, and Ternium in timely filed rebuttal submissions.³³ On September 20, 2024, Stelco, Dofasco, and Ternium submitted additional comments.³⁴ On September 24, 2024, Ternium submitted additional comments and provided its 2023 shipments and production.³⁵

²⁷ See Stelco's Letter, “Comments on Industry Support for the Petitions and Request for Polling,” dated September 18, 2024.

²⁸ See Dofasco's Letter, “Comments on Industry Support and Request for Industry Polling,” dated September 18, 2024.

²⁹ See Ternium's Letters, “Comments on Petitioners' Standing,” dated September 18, 2024 (Ternium Letter I), and “Entry of Appearance,” dated September 13, 2024.

³⁰ See Ternium Letter I at 3.

³¹ See GOC and Government of Ontario's Letter, “Industry Support Comments,” dated September 18, 2024.

³² See GOC Consultations Memorandum; see also GOC's Letter, “Government of Canada's Consultations Materials,” dated September 20, 2024.

³³ See Petitioners' Letters, “Response to Comments on Industry Support and Request for Polling,” dated September 20, 2024 (Petitioners' Response I), “Response to Comments on Industry Support,” dated September 20, 2024 (Petitioners' Response II), and “Response to Comments on Petitioners' Standing,” dated September 20, 2024 (Petitioners' Response III).

³⁴ See Stelco's Letter, “Rebuttal Comments on Industry Support for the Petitions and Request for Polling,” dated September 20, 2024; see also Dofasco's Letter, “Rebuttal Comments to Petitioners' Response to the Second General Issues Questionnaire and Amendment to Volume I of Petitions,” dated September 20, 2024.

³⁵ See Ternium's Letter, “Ternium's Third Comments on Petitioners' Standing,” dated September 24, 2024.

Our review of the data provided in the Petitions, the First General Issues Supplement, Second General Issues Supplement, the Third General Issues Supplement, Petitioners' Response I, Petitioners' Response II, Petitioners' Response III, and other information readily available to Commerce indicates that the petitioners have established industry support for the Petitions.³⁶ With respect to the Brazil, Mexico, and Vietnam CVD Petitions, we determine that the domestic producers and workers that support the Brazil, Mexico, and Vietnam CVD Petitions account for more than 50 percent of the total production of the domestic like product and, as such, Commerce is not required to take further action to evaluate industry support (e.g., polling).³⁷ Second, the domestic producers and workers have met the statutory criteria for industry support under section 702(c)(4)(A)(i) of the Act because the domestic producers and workers who support the Brazil, Mexico, and Vietnam CVD Petitions account for at least 25 percent of the total production of the domestic like product.³⁸ Finally, the domestic producers and workers have met the statutory criteria for industry support under section 702(c)(4)(A)(ii) of the Act because the domestic producers and workers who support the Brazil, Mexico, and Vietnam CVD Petitions account for more than 50 percent of the production of the domestic like product produced by that portion of the industry expressing support for, or opposition to, the Petitions.³⁹ Accordingly, Commerce determines that the Brazil, Mexico, and Vietnam CVD Petitions were filed on behalf of the domestic industry within the meaning of section 702(b)(1) of the Act.⁴⁰

³⁶ For further discussion, see Attachment II of the Country-Specific CVD Initiation Checklists.

³⁷ Id.; see also section 702(c)(4)(D) of the Act.

³⁸ See Attachment II of the Country-Specific CVD Initiation Checklists.

³⁹ Id.

⁴⁰ Id.

With respect to the Canada CVD Petition, based on information provided in the Petition and supplemental responses thereto, we determine that the domestic producers (or workers) have met the statutory criteria for industry support under section 702(c)(4)(A)(i) of the Act, because the domestic producers (or workers) who support the Canada CVD Petition account for at least 25 percent of the total production of the domestic like product.⁴¹ Because the Canada CVD Petition and supplemental submissions did not establish support from domestic producers (or workers) accounting for more than 50 percent of the total production of the domestic like product, Commerce was required to take further action in order to evaluate industry support.⁴² In this case, Commerce was able to rely on other information, in accordance with section 702(c)(4)(D)(i) of the Act, to determine industry support.⁴³ Based on information provided in the Petitions, supplemental responses, and other information readily available to Commerce, the domestic producers (or workers) have met the statutory criteria for industry support under section 702(c)(4)(A)(ii) of the Act because the domestic producers (or workers) who support the Canada CVD Petition account for more than 50 percent of the production of the domestic like product produced by that portion of the industry expressing support for, or opposition to, the Canada CVD Petition.⁴⁴ Accordingly, Commerce determines that the Canada CVD Petition was filed on behalf of the domestic industry within the meaning of section 702(b)(1) of the Act.⁴⁵

⁴¹ See Attachment II of the Canada CVD Initiation Checklist.

⁴² Id.; see also section 702(c)(4)(D) of the Act.

⁴³ See Attachment II of the Canada CVD Initiation Checklist.

⁴⁴ Id.

⁴⁵ Id.

Injury Test

Because Brazil, Canada, Mexico, and Vietnam are “Subsidies Agreement Countries” within the meaning of section 701(b) of the Act, section 701(a)(2) of the Act applies to these investigations. Accordingly, the ITC must determine whether imports of the subject merchandise from Brazil, Canada, Mexico, and/or Vietnam materially injure, or threaten material injury to, a U.S. industry.

Allegations and Evidence of Material Injury and Causation

The petitioners allege that imports of the subject merchandise are benefiting from countervailable subsidies and that such imports are causing, or threaten to cause, material injury to the U.S. industry producing the domestic like product. In addition, the petitioners allege that subject imports from Brazil, Canada, Mexico, and Vietnam individually exceed the negligibility threshold provided for under section 771(24)(A) of the Act.⁴⁶

⁴⁶ For further information regarding negligibility and the injury allegation, see Country-Specific CVD Initiation Checklists at Attachment III, Analysis of Allegations and Evidence of Material Injury and Causation for the Antidumping and Countervailing Duty Petitions Covering Certain Corrosion-Resistant Steel Products from Australia, Brazil, Canada, Mexico, the Netherlands, South Africa, Taiwan, the Republic of Türkiye, the United Arab Emirates, and the Socialist Republic of Vietnam (Attachment III).

The petitioners contend that the industry's injured condition is illustrated by the significant volume of subject imports; reduced market share; underselling and price depression and/or suppression; and low and declining capacity utilization; and declines in U.S. commercial shipment values, net sales values, operating income, and net income.⁴⁷ We assessed the allegations and supporting evidence regarding material injury, threat of material injury, causation, cumulation, as well as negligibility, and we have determined that these allegations are properly supported by adequate evidence and meet the statutory requirements for initiation.⁴⁸

⁴⁷ Id.

⁴⁸ Id.

Initiation of CVD Investigations

Based upon the examination of the Petitions and supplemental responses, we find that they meet the requirements of section 702 of the Act. Therefore, we are initiating CVD investigations to determine whether imports of CORE from Brazil, Canada, Mexico, and Vietnam benefit from countervailable subsidies conferred by the GOB, GOC, GOM, and the GOV, respectively. In accordance with section 703(b)(1) of the Act and 19 CFR 351.205(b)(1), unless postponed, we will make our preliminary determinations no later than 65 days after the date of these initiations.

Brazil

Based on our review of the Petitions, we find that there is sufficient information to initiate a CVD investigation on all 16 of the programs alleged by the petitioners. For a full discussion of the basis for our decision to initiate on each program, see the Brazil CVD Initiation Checklist. A public version of the initiation checklist for this investigation is available on ACCESS.

Canada

Based on our review of the Petitions, we find that there is sufficient information to initiate a CVD investigation on 27 of the 28 programs alleged by the petitioners. For a full discussion of the basis for our decision to initiate on each program, see the Canada CVD Initiation Checklist. A public version of the initiation checklist for this investigation is available on ACCESS.

Mexico

Based on our review of the Petitions, we find that there is sufficient information to initiate a CVD investigation on 15 of the 16 programs alleged by the petitioners. For a full discussion of the basis for our decision to initiate on each program, see the Mexico CVD Initiation Checklist. A public version of the initiation checklist for this investigation is available on ACCESS.

Vietnam

Based on our review of the Petitions, we find that there is sufficient information to initiate a CVD investigation on all 26 of the programs alleged by the petitioners. For a full discussion of the basis for our decision to initiate on each program, see the Vietnam CVD Initiation Checklist. A public version of the initiation checklist for this investigation is available on ACCESS.

Respondent Selection

Brazil, Canada, and Mexico

In the Petitions, the petitioners identified eight companies in Brazil, five companies in Canada, and six companies in Mexico as producers and/or exporters of CORE.⁴⁹ Commerce intends to follow its standard practice in CVD investigations and calculate company-specific subsidy rates in these investigations. Following standard practice in CVD investigations, in the event Commerce determines that the number of exporters or producers is large such that Commerce cannot individually examine each company based on its resources, Commerce intends to select mandatory respondents based on U.S. Customs and Border Protection (CBP) entry data for U.S. imports under the appropriate Harmonized Tariff Schedule of the United States (HTSUS) subheading(s) listed in the “Scope of the Investigations,” in the appendix.

⁴⁹ See Petitions at Volume I (page 28 and Exhibits I-10 through I-12); see also First General Issues Supplement at 7 and Exhibit Supp. I-18.

On September 23, 2024, Commerce released CBP data on imports of CORE from Brazil, Canada, and Mexico under administrative protective order (APO) to all parties with access to information protected by APO and indicated that interested parties wishing to comment on CBP data and/or respondent selection must do so within three business days of the publication date of the notice of initiation of these investigations.⁵⁰ Comments must be filed electronically using ACCESS. An electronically-filed document must be received successfully in its entirety via ACCESS by 5:00 p.m. ET on the specified deadline. Commerce will not accept rebuttal comments regarding the CBP data or respondent selection.

⁵⁰ See Country-Specific Memoranda, “Release of U.S. Customs and Border Protection Entry Data,” dated September 23, 2024.

Interested parties must submit applications for disclosure under APO in accordance with 19 CFR 351.305(b). Instructions for filing such applications may be found on Commerce's website at https://www.trade.gov/administrative-protective-orders.

Vietnam

In the Petitions, the petitioners identified 17 companies in Vietnam as producers and/or exporters of CORE.⁵¹ Commerce intends to follow its standard practice in CVD investigations and calculate company-specific subsidy rates in these investigations. In the event that Commerce determines that the number of known producers/exporters is large, and it cannot individually examine each company based upon Commerce's resources, Commerce intends to select mandatory respondents based on quantity and value (Q&V) questionnaires issued to the potential respondents. Commerce normally selects mandatory respondents in CVD investigations using U.S. Customs and Border Protection (CBP) entry data for U.S. imports under the appropriate Harmonized Tariff Schedule of the United States (HTSUS) subheadings listed in the “Scope of the Investigations” in the appendix. However, for the Vietnam CVD investigation, due to Commerce's determinations that certain imports of CORE from Vietnam are circumventing the CVD orders on CORE from the People's Republic of China ⁵² and the Republic of Korea,⁵³ we cannot rely on CBP data in selecting respondents. Accordingly, for Vietnam, Commerce will send Q&V questionnaires to each producer and/or exporter for which there is complete address information on the record.

⁵¹ See Petitions at Volume I (page 28 and Exhibit I-18).

⁵² See Certain Corrosion-Resistant Steel Products from the People's Republic of China: Affirmative Final Determination of Circumvention of the Antidumping and Countervailing Duty Orders, 83 FR 23895 (May 23, 2018).

⁵³ See Certain Corrosion-Resistant Steel Products from the Republic of Korea: Affirmative Final Determinations of Anti-Circumvention Inquiries on the Antidumping Duty and Countervailing Duty Orders, 84 FR 70948 (December 26, 2019); see also Certain Corrosion-Resistant Steel Products from the Republic of Korea: Correction to Affirmative Final Determinations of Anti-Circumvention Inquiries on the Antidumping Duty and Countervailing Duty Orders, 85 FR 882 (January 8, 2020).

Commerce will also post the Q&V questionnaire along with filing instructions on Commerce's website at https://www.trade.gov/ec-adcvd-case-announcements. Exporters/producers of CORE from Vietnam that do not receive Q&V questionnaires may still submit a response to the Q&V questionnaire and can obtain a copy of the Q&V questionnaire from Commerce's website. Responses to the Q&V questionnaire must be submitted by the relevant producers/exporters no later than 5:00 p.m. on October 9, 2024, which is two weeks from the signature date of this notice. An electronically filed document must be received successfully, in its entirety, by ACCESS no later than 5:00 p.m. ET on the deadline noted above.

Distribution of Copies of the Petitions

In accordance with section 702(b)(4)(A) of the Act and 19 CFR 351.202(f), a copy of the public version of the Petitions has been provided to the GOB, GOC, GOM, and GOV via ACCESS. To the extent practicable, we will attempt to provide a copy of the public version of the Petitions to each exporter named in the Petitions, as provided under 19 CFR 351.203(c)(2).

ITC Notification

Commerce will notify the ITC of its initiation, as required by section 702(d) of the Act.

Preliminary Determination by the ITC

The ITC will preliminarily determine, within 45 days after the date on which the Petitions were filed, whether there is a reasonable indication that imports of CORE from Brazil, Canada, Mexico, and/or Vietnam are materially injuring, or threatening material injury to, a U.S. industry.⁵⁴ A negative ITC determination for any country will result in the investigation being terminated with respect to that country.⁵⁵ Otherwise, these CVD investigations will proceed according to statutory and regulatory time limits.

⁵⁴ See section 703(a)(1) of the Act.

⁵⁵ Id.

Submission of Factual Information

Factual information is defined in 19 CFR 351.102(b)(21) as: (i) evidence submitted in response to questionnaires; (ii) evidence submitted in support of allegations; (iii) publicly available information to value factors of production under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁵⁶ and, if the information is submitted to rebut, clarify, or correct factual information already on the record, to provide an explanation identifying the information already on the record that the factual information seeks to rebut, clarify, or correct.⁵⁷ Time limits for the submission of factual information are addressed in 19 CFR 351.301, which provides specific time limits based on the type of factual information being submitted. Interested parties should review the regulations prior to submitting factual information in these investigations.

⁵⁶ See 19 CFR 351.301(b).

⁵⁷ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁵⁸ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁵⁹

⁵⁸ See 19 CFR 351.302.

⁵⁹ See 19 CFR 351.301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.⁶⁰ Parties must use the certification formats provided in 19 CFR 351.303(g).⁶¹ Commerce intends to reject factual submissions if the submitting party does not comply with the applicable certification requirements.

⁶⁰ See section 782(b) of the Act.

⁶¹ See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letters of appearance). Note that Commerce has amended certain of its requirements pertaining to the service of documents in 19 CFR 351.303(f).⁶²

⁶² See Administrative Protective Order, Service, and Other Procedures in Antidumping and Countervailing Duty Proceedings, 88 FR 67069 (September 29, 2023).

This notice is issued and published pursuant to sections 702 and 777(i) of the Act, and 19 CFR 351.203(c).

Dated: September 25, 2024.
Ryan Majerus,
Deputy Assistant Secretary for Policy and Negotiations, performing the non-exclusive functions and duties of the Assistant Secretary for Enforcement and Compliance.

Appendix

Scope of the Investigations

The products covered by these investigations are certain flat-rolled steel products, either clad, plated, or coated with corrosion-resistant metals such as zinc, aluminum, or zinc-, aluminum-, nickel- or iron-based alloys, whether or not corrugated or painted, varnished, laminated, or coated with plastics or other non-metallic substances in addition to the metallic coating. The products covered include coils that have a width of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges).

For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of these investigations are products in which: (1) iron predominates, by weight, over each of the other contained elements; and (2) the carbon content is 2 percent or less, by weight.

Subject merchandise also includes corrosion-resistant steel that has been further processed in a third country, including but not limited to annealing, tempering, painting, varnishing, trimming, cutting, punching and/or slitting or any other processing that would not otherwise remove the merchandise from the scope of the investigations if performed in the country of manufacture of the in-scope corrosion resistant steel.

All products that meet the written physical description are within the scope of these investigations unless specifically excluded. The following products are outside of and/or specifically excluded from the scope of these investigations:

• Flat-rolled steel products either plated or coated with tin, lead, chromium, chromium oxides, both tin and lead (“terne plate”) or both chromium and chromium oxides (“tin free steel”), whether or not painted, varnished or coated with plastics or other non-metallic substances in addition to the metallic coating;

• Clad products in straight lengths of 4.7625 mm or more in composite thickness and of a width which exceeds 150 mm and measures at least twice the thickness;

• Certain clad stainless flat-rolled products, which are three-layered corrosion-resistant carbon steel flat-rolled products less than 4.75 mm in composite thickness that consist of a carbon steel flat-rolled product clad on both sides with stainless steel in a 20%-60%-20% ratio; and

Also excluded from the scope of the antidumping duty investigation on corrosion resistant steel from Taiwan are any products covered by the existing antidumping duty order on corrosion-resistant steel from Taiwan. See Certain Corrosion-Resistant Steel Products from India, Italy, the People's Republic of China, the Republic of Korea and Taiwan: Amended Final Affirmative Antidumping Determination for India and Taiwan, and Antidumping Duty Orders, 81FR 48390 (July 25, 2016); Corrosion-Resistant Steel Products from Taiwan: Notice of Third Amended Final Determination of Sales at Less Than Fair Value Pursuant to Court Decision and Partial Exclusion from Antidumping Duty Order, 88 FR 58245 (August 25, 2023).

Also excluded from the scope of the antidumping duty investigation on corrosion-resistant steel from the United Arab Emirates and the antidumping duty and countervailing duty investigations on corrosion-resistant steel from the Socialist Republic of Vietnam are any products covered by the existing antidumping and countervailing duty orders on corrosion-resistant steel from the People's Republic of China and the Republic of Korea and the antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); see also Certain Corrosion-Resistant Steel Products from India, Italy, Republic of Korea and the People's Republic of China: Countervailing Duty Order, 81 FR 48387 (July 25, 2016). This exclusion does not apply to imports of corrosion-resistant steel that are entered, or withdrawn from warehouse, for consumption in the United States for which the relevant importer and exporter certifications have been completed and maintained and all other applicable certification requirements have been met such that the entry is entered into the United States as not subject to the antidumping and countervailing duty orders on corrosion-resistant steel from the People's Republic of China, the antidumping and countervailing duty orders on corrosion-resistant steel from the Republic of Korea, or the antidumping duty order on corrosion-resistant steel from Taiwan.

The products subject to the investigations are currently classified in the Harmonized Tariff Schedule of the United States (HTSUS) under item numbers: 7210.30.0030, 7210.30.0060, 7210.41.0000, 7210.49.0030, 7210.49.0040, 7210.49.0045, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, 7212.60.0000, 7225.91.0000, 7225.92.0000, 7226.99.0110, and 7226.99.0130.

The products subject to the investigations may also enter under the following HTSUS item numbers: 7210.90.1000, 7215.90.1000, 7215.90.3000, 7215.90.5000, 7217.20.1500, 7217.30.1530, 7217.30.1560, 7217.90.1000, 7217.90.5030, 7217.90.5060, 7217.90.5090, 7225.99.0090, 7226.99.0180, 7228.60.6000, 7228.60.8000, and 7229.90.1000.

The HTSUS subheadings above are provided for convenience and customs purposes only. The written description of the scope of the investigations is dispositive.

[FR Doc. 2024-22591 Filed 10-1-24; 8:45 am]

BILLING CODE 3510-DS-P